DEPARTMENT OF COMMERCE

National Oceanic and Atmospheric Administration

Availability of Seats for the Gulf of the Farallones National Marine Sanctuary Advisory Council

AGENCY: National Marine Sanctuary Program (NMSP), National Ocean Service (NOS), National Oceanic and Atmospheric Administration, Department of Commerce (DOC).

ACTION: Notice and request for applications.

SUMMARY: The Gulf of the Farallones National Marine Sanctuary (Sanctuary) is seeking applicants for the following vacant seats on its Sanctuary Advisory Council (council): Conservation Primary; Conservation Alternate, and Community-at-Large Marin/Sonoma Alternate. Applicants are chosen based upon their particular expertise and experience in relation to the seat for which they are applying; community and professional affiliations; philosophy regarding the protection and management of marine resources; and possibly the length of residence in the area affected by the sanctuary. Applicants who are chosen as members should expect to serve 2-3 year terms, pursuant to the council's Charter.

DATES: Applications are due by October 27, 2008.

ADDRESSES: Application kits may be obtained from http://www.farallones.noaa.gov/manage/sac.html, or Kelley Higgason, 991 Marine Dr., The Presidio, San Francisco, CA 94129. Completed applications should be sent to the same address.

FOR FURTHER INFORMATION CONTACT: Kelley Higgason, 991 Marine Dr., The Presidio, San Francisco, CA 94129, 415-561-6622 ext. 202, kelley.higgason@noaa.gov.

SUPPLEMENTARY INFORMATION: The Sanctuary Advisory Council provides the Sanctuary Superintendent with advice on the management of the Sanctuary. Members provide advice to the Superintendent on issues affecting resource protection, the Sanctuary's primary purpose. The Council, through its members, serve as liaisons to the community regarding Sanctuary issues and act as a conduit, relaying the community's interests, concerns, and management needs to the Sanctuary. The Sanctuary Advisory Council members represent public interest groups, local industry, commercial and recreational user groups, academia, conservation groups, government agencies, and the general public. Members serve either two- or three-year terms in order to stagger Council membership and allow continuity.

Authority: 16 U.S.C. 1431, et seq.

(Federal Domestic Assistance Catalog Number 11.429, Marine Sanctuary Program)

Dated: September 4, 2008.
Daniel J. Basta,
Director, National Marine Sanctuary Program, National Ocean Service, National Oceanic and Atmospheric Administration.

[FR Doc. E8-21021 Filed 9-10-08; 8:45 am]

BILLING CODE 3510-NK-M